DEPARTMENT OF AGRICULTURE

Foreign Agricultural Service

Trade Adjustment Assistance for Farmers

AGENCY: Foreign Agricultural Service, USDA.

ACTION: Notice.

The Administrator, Foreign Agricultural Service (FAS), today accepted a petition, and began a review of a petition, for trade adjustment assistance by the North Carolina Commercial Flower Growers Association on behalf of cut lily producers in Georgia, North Carolina, South Carolina, and Virginia. The Administrator will determine within 40 days whether or not increasing imports of lilies contributed importantly to a greater than 15 percent decrease in cash receipts for lilies compared to the average of the 3 preceding marketing years. If a determination is affirmative, producers who produce and market cut lilies in Georgia, North Carolina, South Carolina, and Virginia will be eligible to apply to the Farm Service Agency for technical assistance at no cost and cash benefits.

FOR FURTHER INFORMATION CONTACT: Trade Adjustment Assistance Staff, FAS, USDA, at (202) 720-0638, or by e-mail at: tradeadjustment@fas.usda.gov. Additional program information can be obtained at the Web site for the Trade Adjustment Assistance for Farmers program. The URL is http://www.fas.usda.gov/itp/taa.

Dated: April 27, 2010.
John D. Brewer,
Administrator, Foreign Agricultural Service.

[FR Doc. 2010-10265 Filed 4-30-10; 8:45 am]

BILLING CODE 3410-10-P